ENVIRONMENTAL PROTECTION AGENCY

[ER-FRL-8992-4]

Environmental Impacts Statements; Notice of Availability

Responsible Agency: Office of Federal Activities, General Information (202) 564-1399 or http://www.epa.gov/compliance/nepa/3.

Weekly receipt of Environmental Impact Statements.

Filed 08/16/2010 Through 08/20/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20100317, Final EIS, NOAA, 00, PROGRAMMATIC—Coral Restoration in the Florida Keys and Flower Garden Banks National Marine Sanctuaries, Implementation, FL, TX, and LA, Wait Period Ends: 09/27/2010, Contact: Alice Stratton 203-882-6515.

EIS No. 20100330, Final EIS, USFS, OR, Off-Highway Vehicle (OHV) Management Plan, Including Forest Plan Amendment #17, Designation of Roads, Trails and Areas for OHV Use on Mt. Hood National Forest, Implementation, Clackamas, Hood River, Multnomah, and Wasco Counties, OR, Wait Period Ends: 09/27/2010, Contact: Michelle Lombardo 503-668-1796.

EIS No. 20100331, Draft EIS, NOAA, 00, Harvest Specifications and Management Measures for the 2011-2012 Pacific Coast Groundfish Fishery and Amendment 16-5 to the Pacific Coast Groundfish Fishery Management Plan, and Adopt a Rebuilding Plan for Petrale Sole, RIN-0648-BA01, WA, OR and CA, Comment Period Ends: 10/12/2010, Contact: William W. Steele, Jr. 206-526-6150.

EIS No. 20100332, Final EIS, NPS, MD, Monocacy National Battlefield, General Management Plan, Implementation, Frederick County, MD, Wait Period Ends: 09/27/2010, Contact: Susan Trail 301-694-3147.

EIS No. 20100333, Final EIS, NPS, 00, Harpers Ferry National Historical Park, General Management Plan, Implementation, Harpers Ferry, Jefferson County, WV; Loudoun County, VA; and Washington County, MD, Wait Period Ends: 09/27/2010, Contact: Rebecca L. Harriett 304-535-6224.

EIS No. 20100334, Final EIS, FAA, PA, Philadelphia International Airport (PHL) Capacity Enhancement Program (CEP) To Accommodate Current and Future Aviation Demand, Funding and U.S. Army COE Section 404 Permit, Philadelphia, PA, Wait Period Ends: 09/27/2010, Contact: Susan McDonald 717-730-2841.

EIS No. 20100335, Draft Supplement, NOAA, 00, Amendment 11 to the Atlantic Mackerel, Squid, and Butterfish (MSB), Update Information MSB Essential Fish Habitat; Establish a Mackerel Recreational Allocation; Establish a Cap to Limit the At-Sea Processing of Mackerel, Fishery Management Plan (FMP), Establish an Atlantic Mackerel Limited Access Program, Implementation, Comment Period Ends: 10/12/2010, Contact: Patricia A. KurKul 978-281-9250.

EIS No. 20100336, Draft EIS, FTA, NC, LYNX—Blue Line Extension Northeast Corridor Light Rail Project, Proposed Light Rail Extension from Center City Charlotte to I-485 near the Mecklenburg-Cabarrus County Line, Charlotte-Mecklenburg County, NC, Comment Period Ends: 10/12/2010, Contact: Keith Melton 404-856-5600 This document is available on the Internet at: http://charmeck.org/city/charlotte/cats/planning/BLE/Pages/deisstudy.aspx.

EIS No. 20100337, Final EIS, NRC, WY, Moore Ranch In-Situ Uranium Recovery (ISR) Project, Proposal to Construct, Operate, Conduct Aquifer Restoration, and Decommission an In-Situ Recovery (ISR) Facility, NUREG-1910, Campbell County, WY, Wait Period Ends: 09/27/2010, Contact: Behram Shroff 301-415-0666.

EIS No. 20100338, Draft EIS, BLM, CA, First Solar Desert Sunlight Solar Farm (DSSF) Project, Proposing To Develop a 550-Megawatt Photovoltaic Solar Project, Also Proposes to Facilitate the Construction and Operation of the Red Bluff Substation, California Desert Conservation Area (CDCA Plan, Riverside County, CA, Comment Period Ends: 11/26/2010, Contact: Allison Shaffer 760-833-7100.

EIS No. 20100339, Final EIS, BLM, CA, Genesis Solar Energy Project, Application for a Right-of-Way Grant to Construct, Operate and Decommission a Solar Thermal Facility on Public Lands, California Desert Conservation Area Plan, Riverside County, CA, Wait Period Ends: 09/27/2010, Contact: Allison Shaffer 760-833-7104.

EIS No. 20100340, Final EIS, USA, WA, Fort Lewis Army Growth and Force Structures Realignment, Implementation, Fort Lewis and Yakima Training Center, Kittitas, Pierce, Thurston and Yakima Counties, WA, Wait Period Ends: 09/27/2010, Contact: Lisa Booher 410-436-2405.

Amended Notices

EIS No. 20100305, Draft EIS, NPS, AK, Nabesna Off-Road Vehicle Management Plan, Implementation, Wrangell-St. Elias National Park and Preserve, AK, Comment Period Ends: 11/10/2010, Contact: Bruce Rogers 907-822-7276, Revision to FR Notice Published 08/13/2010: Correction to Title and Extending the Comment Period from 09/27/2010 to 11/10/2010.

EIS No. 20100328, Final EIS, DOE, KS, Abengoa Biorefinery Project, To Support the Design, Construction, and Startup of a Commercial-Scale Integrated Biorefinery, Federal Funding, Located near the City Hugoton, Stevens County, KS, Comment Period Ends: 09/20/2010, Contact: Kristin Kerwin 720-356-1564.

Revision to FR Notice Published 8/20/2010: Correction to Wait Period from 09/09/2010 to 09/20/2010.

Dated: August 24, 2010.
Robert W. Hargrove,
Director, NEPA Compliance Division, Office of Federal Activities.

[FR Doc. 2010-21439 Filed 8-26-10; 8:45 am]

BILLING CODE 6560-50-P